DEPARTMENT OF DEFENSE

GENERAL SERVICES ADMINISTRATION

NATIONAL AERONAUTICS AND SPACE ADMINISTRATION

48 CFR Part 19

[FAC 2005-09; Item X; Docket FAR-2006-0021]

Federal Acquisition Regulation; Technical Amendment

AGENCIES: Department of Defense (DoD), General Services Administration (GSA), and National Aeronautics and Space Administration (NASA).

ACTION: Final rule.

SUMMARY: This document amends the Federal Acquisition Regulation (FAR) to make an editorial correction.

DATES: Effective Date: April 19, 2006.

FOR FURTHER INFORMATION CONTACT: The FAR Secretariat, Room 4035, GS Building, Washington, DC, 20405, (202) 501-4755, for information pertaining to status or publication schedules. Please cite FAC 2005-09, Technical Amendment.

List of Subjects in 48 CFR Part 19

Government procurement.

Dated: April 12, 2006.
Gerald Zaffos,
Director, Contract Policy Division.

Therefore, DoD, GSA, and NASA amend 48 CFR part 19 as set forth below:

PART 19—SMALL BUSINESS PROGRAMS

1. The authority citation for 48 CFR part 19 continues to read as follows:

Authority: 40 U.S.C. 121(c); 10 U.S.C. chapter 137; and 42 U.S.C. 2473(c).

19.1005 [Amended]

2. Amend section 19.1005 in paragraph (a) in Item 3 of the NAICS Description by removing from the end of NAICS code entry “541310” the word “or”.

[FR Doc. 06-3687 Filed 4-18-06; 8:45 am]

BILLING CODE 6820-EP-S